DEPARTMENT OF THE INTERIOR

Bureau of Land Management

[LLCAD01000 L19900000.DB0000]

30-Day Extension of Call for Nominations for the Bureau of Land Management's California Desert District Advisory Council

AGENCY: Bureau of Land Management, Interior.

ACTION: Notice.

SUMMARY: The Bureau of Land Management's (BLM) California Desert District is extending the call for nominations from the public for six members of its District Advisory Council to serve 3-year terms, first published in the Federal Register on January 19, 2012 (77 FR 2755). Council members provide advice and recommendations to the BLM on the management of public lands in southern California.

DATES: Nominations will be accepted until May 31, 2012.

ADDRESSES: Nominations should be sent to Teresa Raml, District Manager, Bureau of Land Management, California Desert District Office, 22835 Calle San Juan De Los Lagos, Moreno Valley, CA 92553.

FOR FURTHER INFORMATION CONTACT: David Briery, BLM California Desert District External Affairs (951) 697-5220.

SUPPLEMENTARY INFORMATION: The California Desert District Advisory Council is comprised of 15 individuals who represent different interests and advise BLM officials on policies and programs concerning the management of 11 million acres of public land in southern California. The Council meets in formal session three to four times each year in various locations throughout the BLM's California Desert District. Council members serve without compensation. Members serve 3-year terms and may be nominated for reappointment for additional 3-year terms.

Section 309 of the Federal Land Policy and Management Act directs the Secretary of the Interior to involve the public in planning and issues related to management of BLM-administered lands. The Secretary also selects Council nominees consistent with the requirements of the Federal Advisory Committee Act (FACA), which requires nominees appointed to the Council be balanced in terms of points of view and representative of the various interests concerned with the management of the public lands.

The Council also is balanced geographically, and the BLM strives to find qualified representatives from areas throughout the California Desert District. The District covers portions of eight counties, and includes more than 11 million acres of public land in the California Desert Conservation Area of Mono, Inyo, Kern, San Bernardino, Riverside, and Imperial counties, as well as 300,000 acres of scattered parcels in San Diego, western Riverside, western San Bernardino, Orange, and Los Angeles counties (known as the South Coast).

The BLM is extending the nomination period in order to broaden the pool of qualified nominations from which a selection can be made by the Secretary of the Interior. Nominations will be accepted for 30 days from the publication date of this notice. The 3-year terms would begin immediately upon appointment by the Secretary of the Interior.

The six positions to be filled include one representative of transportation/rights-of-way groups or organizations, one elected official, one representative of renewable energy groups or organizations, one representative of non-renewable resources groups or organizations, one representative of environmental protection groups or organizations, and one representative of the public-at-large.

Any group or individual may nominate a qualified person, based upon education, training, and knowledge of the BLM, the California Desert, and the issues involving BLM-administered public lands throughout southern California. Qualified individuals also may nominate themselves. If you have already submitted your nomination materials for 2012 you will not need to resubmit.

The nomination form may be found on the Desert Advisory Council Web page: http://www.blm.gov/ca/st/en/info/rac/dac.html. The following must accompany the nomination form for all nominations:

○ Letters of reference from represented interests or organizations;

○ A completed background information nomination form; and

○ Any other information that addresses the nominee's qualifications.

Nominees unable to download the nomination form may contact the BLM California Desert District External Affairs staff at (951) 697-5220 to request a copy. Advisory Council members are appointed by the Secretary of the Interior.

The Obama Administration prohibits individuals who are currently federally registered lobbyists to serve on all FACA and non-FACA boards, committees or councils.

Authority: 43 CFR subpart 1784.

Raymond C. Lee,
Acting California Desert District Manager.

[FR Doc. 2012-10427 Filed 4-30-12; 8:45 am]

BILLING CODE 4310-40-P